FEDERAL COMMUNICATIONS COMMISSION

47 CFR Part 73

[DA 07-4313; MB Docket No. 05-248; RM-11262, RM-11315]

Radio Broadcasting Services; Danville, Falmouth, Midway, Owingsville, Perryville, and Wilmore, KY

AGENCY: Federal Communications Commission.

ACTION: Final rule.

SUMMARY: This document grants a counterproposal filed by Educational Media Foundation requesting the reallotment of Channel 296A from Danville to Wilmore, Kentucky, and the modification of its license to reflect the change and the allotment of Channel 298A at Perryville, Kentucky, as the community's first local aural transmission service. The document denies a petition for rulemaking filed jointly by L.M. Communications of Kentucky, LLC, licensee of Station WBTF (FM), Midway, Kentucky, and Gateway Radio Works, Inc., licensee of Station WKCA (FM), Owingsville, Kentucky, proposing to substitute Channel 298C3 for Channel 300A at Midway, Kentucky and modify Station WBTF's license accordingly, to substitute Channel 295A for 299A at a new site at Owingsville, Kentucky and modify Gateway's license for Station WKCA accordingly, and to substitute Channel 300A for Channel 299A at Falmouth, Kentucky and modify the Station WIOK (FM) license accordingly. Counterproposals filed by West Portsmouth Broadcasting and RGS Communications are dismissed. See SUPPLEMENTARY INFORMATION supra.

DATES: Effective December 3, 2007.

ADDRESSES: Secretary, Federal Communications Commission, 445 Twelfth Street, SW., Washington, DC 20554.

FOR FURTHER INFORMATION CONTACT: Victoria McCauley, Media Bureau, (202) 418-2180.

SUPPLEMENTARY INFORMATION: This is a synopsis of the Commission's Report and Order, MB Docket No. 05-248, adopted October 17, 2007 and released October 19, 2007. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

The Media Bureau's Consolidated Data Base Systems will reflect the following FM Channel as the reserved assignment for the listed stations, respectively: Channel 296A at Wilmore, Kentucky in lieu of Danville, Kentucky, for Station WLAI-FM. Channel 296A can be allotted at Wilmore at a site 12.1 kilometers (7.5 miles) east of the community at coordinates 37-49-36 NL and 84-31-42 WL. Channel 298A can be allotted at Perryville at a site 7.5 kilometers (4.7 miles) east of the community at coordinates 37-37-54 NL and 84-52-07 WL.

Provisions of the Regulatory Flexibility Act of 1980 do not apply to this proceeding.

List of Subjects in 47 CFR Part 73

Radio, Radio broadcasting.

For the reasons stated in the preamble, the Federal Communications Commission amends 47 CFR part 73 as follows:

PART 73—RADIO BROADCAST SERVICES

1. The authority citation for Part 73 continues to read as follows:

Authority: 47 U.S.C. 154, 303, 334, 336.

§ 73.202 [Amended]

2. Section 73.202(b), the Table of FM Allotments under Kentucky, is amended by adding Perryville, Channel 298A.

Federal Communications Commission.
John A. Karousos,
Assistant Chief, Audio Division, Media Bureau.

[FR Doc. E7-22118 Filed 11-9-07; 8:45 am]

BILLING CODE 6712-01-P